DEPARTMENT OF HEALTH AND HUMAN SERVICES

Office of the Secretary

[Document Identifier: OS-4040-0001]

Notice of Proposed Requirement To Establish Government-wide Standard Data Elements for Use by All Federal Grant Making Agencies

AGENCY: Office of the Secretary, Grants.gov Program Management Office.

In compliance with the requirement of section 3506(c)(2)(A) of the Paperwork Reduction Act of 1995, the Office of the Secretary (OS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. Emergency Clearance for the data set was published in the Federal Register on September 3, 2004 [Vol. 69, No. 171]. Public comments from the Emergency Clearance were incorporated into the proposed information collection.

#1 Type of Information Collection Request: Regular, Extension of a currently approved collection;

Title of Information Collection: SF-424 Research & Related (R&R);

Form/OMB No.: OS-4040-0001.

Use: The SF-424 (R&R) will become the government-wide data set for research grant applications. Federal agencies and grant applicants will use the standard data set and definitions for paper and electronic research grants applications. The standard data set will become the common Federal data set for research grant applications, replacing numerous agency data sets and reducing the administrative burden placed on the research grants community. The data set provides information to assist Federal program staff and grants officials in assessing the adequacy of applicant's proposals to accomplish project objectives and determine whether the business aspects of grants applications reflect program needs and grants policies. Federal agencies will not be required to collect all of the information included in the proposed data set. The agency will identify the data that must be provided by applicants through instructions that will accompany the application forms.

Frequency: Recording, Reporting, and on Occasion;

Affected Public: Federal, State, local, or tribal governments, business or other for profit, not for profit institutions;

Annual Number of Respondents: 459,425;

Total Annual Responses: 459,425;

Average Burden Per Response: 40 hours;

Total Annual Hours: 19,037,350;

To obtain copies of the supporting statement and any related forms for the proposed paperwork collections referenced above, access the HHS Web site address at http://www.hhs.gov/oirm/infocollect/pending/ or e-mail your request, including your address, phone number, OMB number, and OS document identifier, to naomi.cook@hhs.gov, or call the Reports Clearance Office on (202) 690-6162. Written comments and recommendations for the proposed information collections must be mailed directly to the Desk Officer at the address below: OMB Desk Officer: John Kraemer, OMB Human Resources and Housing Branch, Attention: (OMB#OS-4040-0001), New Executive Office Building, Room 10235, Washington DC 20201.

Dated: January 26, 2005.
Robert E. Polson,
Office of the Secretary, Paperwork Reduction Act Reports Clearance Officer.

[FR Doc. 05-1962 Filed 2-1-05; 8:45 am]

BILLING CODE 4168-17-P